DEPARTMENT OF HEALTH AND HUMAN SERVICES

Centers for Disease Control and Prevention

[Docket Number NIOSH-245]

Expanded Charge for Peer Review of the NIOSH document Titled: “Criteria for a Recommended Standard: Occupational Exposure to Diacetyl and 2,3-pentanedione”

AGENCY: National Institute for Occupational Safety and Health (NIOSH), Centers for Disease Control and Prevention (CDC), Department of Health and Human Services (HHS).

ACTION: Notice of Expanded Charge for Peer Review.

SUMMARY: The National Institute for Occupational Safety and Health (NIOSH) of the Centers for Disease Control and Prevention (CDC) is undergoing peer review for the draft document, “Criteria for a Recommended Standard: Occupational Exposure to Diacetyl and 2,3-pentanedione.” NIOSH held a public meeting on August 26, 2011 in Washington, DC [76 FR 44338] to discuss and obtain comments on the draft document. Public comments were accepted into the NIOSH docket from August 12, 2011- November 18, 2011 [76 FR 64353]. The draft document and all public comments received are posted on the Internet at: http://www.cdc.gov/niosh/docket/archive/docket245.html for Docket number NIOSH-245. After consultation with the Occupational Safety and Health Administration, Department of Labor (OSHA/DOL), NIOSH has asked the peer reviewers seven additional questions for consideration which are posted here: http://www.cdc.gov/niosh/review/peer/HISA/diacetyl-pr.html.

This entry serves as notice of the expanded charge to peer reviewers for this draft document.

FOR FURTHER INFORMATION CONTACT: Lauralynn Taylor McKernan, ScD CIH, NIOSH, 4676 Columbia Parkway C-32, Cincinnati, OH 45226, telephone (513) 533-8542, Fax (513) 533-8230, email LMcKernan@cdc.gov.

Dated: April 2, 2012.
John Howard,
Director, National Institute for Occupational Safety and Health, Centers for Disease Control and Prevention.

[FR Doc. 2012-8685 Filed 4-10-12; 8:45 am]

BILLING CODE 4163-19-P